DEPARTMENT OF DEFENSE

Office of the Secretary

[Transmittal No. 19-76]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-76 with attached Policy Justification and Sensitivity of Technology.

Dated: April 3, 2020.
Aaron T. Siegel,
Alternate OSD Federal Register Liaison Officer, Department of Defense.

Transmittal No. 19-76

Notice of Proposed Issuance of Letter of Offer Pursuant to Section 36(b)(1) of the Arms Export Control Act, as amended

(i) Prospective Purchaser: Government of Jordan

(ii) Total Estimated Value:

Major Defense Equipment * | $ 40 million
Other | $260 million
Total | $300 million

(iii) Description and Quantity or Quantities of Articles or Services under Consideration for Purchase: Advanced Field Artillery Tactical Data System (AFATDS) including hardware, software, and associated services

Major Defense Equipment (MDE):

Up to seven hundred (700) AFATDS Software License Copies with a Tailored, International Ballistic Kernel

Non-MDE:

Also included are up to two hundred (200) each laptop and table computers, ancillary computer mounting hardware, battery kits and chargers, printers, scanners, network routers and communication hardware, modems, two hundred fifty (250) each diesel fueled 5 kilowatt auxiliary power units (APUs), one hundred (100) each diesel fueled electrical power generators, fifty (50) each model 7800-HF 150-Watt high frequency radios, five hundred (500) each model 7850-MB 50-Watt multiband (UHF & VHF) radios, five hundred fifty (550) each model 7850-MB IO-Watt multiband (UHF & VHF) radios, all the required cables and components, required engineering and installation services, operations, integration, and maintenance services, contractor furnished support, communications support equipment, tools and test equipment, training, U.S. Government technical/logistical Support, contractor technical support, spares and support equipment, and other related elements of logistical and program support services.

(iv) Military Department: Army (JO-B-YBJ)

(v) Prior Related Cases, if any: JO-B-WYB

(vi) Sales Commission, Fee, etc., Paid, Offered, or Agreed to be Paid: None

(vii) Sensitivity of Technology Contained in the Defense Article or Defense Services Proposed to be Sold: See Attached Annex

(viii) Date Report Delivered to Congress: February 25, 2020

*As defined in Section 47(6) of the Arms Export Control Act.

POLICY JUSTIFICATION

Jordan—Artillery Command, Control and Communications (C3) Equipment

The Government of Jordan has requested to buy up to seven hundred (700) Advanced Field Artillery Tactical Data System (AFATDS) software license copies with a tailored, international ballistic kernel. Also included are up to two hundred (200) each laptop and table computers, ancillary computer mounting hardware, battery kits and chargers, printers, scanners, network routers and communication hardware, modems, two hundred fifty (250) each diesel fueled 5 kilowatt auxiliary power units (APUs), one hundred (100) each diesel fueled electrical power generators, fifty (50) each model 7800-HF 150-Watt high frequency radios, five hundred (500) each model 7850-MB 50-Watt multiband (UHF & VHF) radios, five hundred fifty (550) each model 7850-MB IO-Watt multiband (UHF & VHF) radios, all the required cables and components, required engineering and installation services, operations, integration, and maintenance services, contractor furnished support, communications support equipment, tools and test equipment, training, U.S. Government technical/logistical Support, contractor technical support, spares and support equipment, and other related elements of logistical and program support services. The estimated cost is $300 million.

This proposed sale will support the foreign policy and national security of the United States by helping to improve the security of an important Major Non-NATO ally in the region. This sale is consistent with U.S. initiatives to provide key partners in the region with modern systems that will enhance interoperability with U.S. forces and increase security.

The proposed upgrade will allow the Jordan Armed Forces (JAF) to fire Guided Multiple Launch Rocket System-Alternative Warhead (GMLRS-AW) rockets using a digital fire control system. The expansion will ensure uniformity among all indirect fire systems used by the JAF. The upgrade and expansion of the AFATDS fire control system will allow the JAF to defend its borders and ground forces with indirect fire weapon systems. This proposed sale will advance the JAF's efforts to modernize its military and to enhance interoperability with U.S., allied, and coalition military forces. Jordan will have no difficulty absorbing these defense articles and services into its armed forces.

The proposed sale will not alter the basic military balance in the region.

The prime contractors for the AFATDS and supporting equipment include Raytheon Company and the Harris Company. There are no known offset agreements in connection with this potential sale.

Implementation of this sale will not require the assignment of any U.S. Government or contractor representatives to Jordan.

There will be no adverse impact on U.S. defense readiness as a result of this proposed sale.

Transmittal No. 19-76

Notice of Proposed Issuance of Letter of Offer Pursuant to Section 36(b)(1) of the Arms Export Control Act

Annex

Item No. vii

(vii) Sensitivity of Technology:

1. All equipment, documentation, software and associated information proposed in this sale is UNCLASSIFIED.

2. The AFATDS software and tailored, international ballistic kernel included in this proposed sale will be formally tested to verify release for export and to verify the excision of any and all elements not authorized for release or export to Jordan.

3. If a technologically advanced adversary were to obtain knowledge of the hardware and software elements, the information could be used to develop countermeasures or equivalent systems which might reduce system effectiveness or be used in the development of a system with similar or advanced capabilities.

4. A determination has been made that the Jordan can provide substantially the same degree of protection for the sensitive technology being released as the U.S. Government. This sale is necessary in furtherance of the U.S. foreign policy and national security objectives outlined in the Policy Justification.

[FR Doc. 2020-07403 Filed 4-7-20; 8:45 am]

BILLING CODE 5001-06-P